DEPARTMENT OF TRANSPORTATION

Federal Railroad Administration

[Docket No. FRA-2016-0002-N-13]

Agency Request for Regular Processing of Collection of Information by the Office of Management and Budget

AGENCY: Federal Railroad Administration (FRA), United States Department of Transportation (DOT).

ACTION: Notice.

SUMMARY: Consistent with the Paperwork Reduction Act of 1995 (PRA) and its implementing regulations, this document provides notice that FRA is submitting the following Information Collection Request (ICR) to the Office of Management and Budget (OMB) to collect information on railroads' implementation of positive train control (PTC) systems on a quarterly form. FRA requests regular processing and OMB authorization to collect the information on the quarterly form identified below 30 days after publication of this notice for a period of three years.

FOR FURTHER INFORMATION CONTACT: A copy of this ICR, with any public applicable supporting documentation, may be obtained by calling FRA's Office of Safety Information Collection Clearance Officer, Robert Brogan at (202) 493-6292, or FRA's Office of Administration Information Collection Clearance Officer, Kimberly Toone at (202) 493-6132; these numbers are not toll-free; or by contacting Mr. Brogan via facsimile at (202) 493-6216 or Ms. Toone via facsimile at (202) 493-6497, or via email by contacting Mr. Brogan at Robert.Brogan@dot.gov, or by contacting Ms. Toone at Kim.Toone@dot.gov. Comments or questions about any aspect of this ICR should be directed to OMB's Office of Information and Regulatory Affairs, Attn: FRA OMB Desk Officer.

SUPPLEMENTARY INFORMATION:

I. Background

Under 49 U.S.C. 20157, as amended by the Positive Train Control Enforcement and Implementation Act of 2015 (PTCEI Act), FRA must conduct compliance reviews, at least annually, to ensure each railroad is complying with its revised PTC implementation plan (PTCIP). The PTCEI Act requires railroads to provide information to FRA that FRA determines is necessary to adequately conduct such compliance reviews. See 49 U.S.C. 20157(c)(2).

To effectively monitor industry's implementation of PTC systems, FRA is proposing to require each subject railroad to submit quarterly reports on its implementation progress, in addition to the annual progress reports the PTCEI Act mandated, under FRA's statutory and regulatory investigative authorities. See 49 U.S.C. 20157(c)(2); see also 49 U.S.C. 20107, 20902; 49 CFR 236.1009(h). Specifically, FRA is proposing that, in addition to the annual report due each March 31 under 49 U.S.C. 20157(c)(1), railroads must provide quarterly progress reports covering the preceding three-month period and submit the forms to FRA on the dates in the following table until full PTC system implementation is completed:

| Coverage period | Due dates for quarterly reports
Q1 | January 1-March 31 | June 30, 2016, and each April 30 thereafter.
Q2 | April 1-June 30 | July 31.
Q3 | July 1-September 30 | October 31.
Q4 | October 1—December 31 | January 31.

FRA delayed the due date for submitting the first quarterly report to allow time for the normal 60 days of notice and public comment to FRA, and the additional 30 days of public comment to OMB while the submission undergoes OMB review as required under the PRA and its concomitant regulations. See 44 U.S.C. 3501-3520; 5 CFR 1320.8(d)(1), 1320.10(e)(1), 1320.12(a).

FRA is proposing that each railroad must submit its quarterly progress reports on Form FRA F 6180.165 using FRA's Secure Information Repository (SIR) at https://sir.fra.dot.gov. FRA is proposing to let the less detailed monthly reporting that it currently requires (approved under OMB No. 2130-0553) expire in June 2016 when railroads would be required to begin providing the quarterly progress reports.

II. Public Participation

On March 7, 2016, FRA published a notice in the Federal Register seeking public comment on the proposed Quarterly PTC Progress Report Form. 81 FR 11878, Mar. 7, 2016. By letter dated April 12, 2016, the Association of American Railroads (AAR) submitted comments on behalf of itself and its member railroads. By letter and email responses dated April 12, 2016, the American Public Transportation Association (APTA) provided comments from Metra, the Utah Transit Authority, the Tri-County Metropolitan Transportation District of Oregon, and the Fort Worth Transportation Authority.

On April 19, 2016, FRA held a meeting on the proposed Quarterly PTC Progress Report Form to offer the affected regulated entities a forum to provide additional comments and feedback to FRA. Representatives from, and members of, AAR, APTA, and the American Short Line and Regional Railroad Association (ASLRRA) attended the meeting. FRA will publish minutes from the meeting in the docket as soon as practicable.

FRA received the following summarized comments on the version of the Quarterly PTC Progress Report that FRA proposed on March 7, 2016. 81 FR 11878. FRA has modified the proposed form based on the industry's comments and requests for clarification in those comments and in the meeting discussed above. The revised form that FRA will submit to OMB for review and approval is attached to this notice.

A. Comments on Section 1—Summary

AAR commented that the column heading “Quantity Completed As of Applicable Quarter” in the summary section was unclear and asked FRA to clarify whether that column refers to the quantity completed for the year as of the end of the quarter or just the quantity completed during the particular quarter. In response, FRA modified the heading to read “Cumulative Quantity Completed to Date” to clarify that FRA wants each railroad to provide a running cumulative total in the high-level summary table.

At the public meeting, CSX Transportation, Inc. (CSX) asked whether the row “Locomotives Fully Equipped” refers to locomotives with all necessary hardware installed or to locomotives with all necessary hardware installed that are mission capable and could begin operating in PTC service. FRA added the words “and PTC operable” to clarify its intent.

Additionally, FRA eliminated the rows “Back Office Locations Completely Installed and Fully Operable” and “Dispatching Locations Completely Installed and Fully Operable” from the summary section, as AAR requested.

Because several commenters requested FRA to make the Quarterly PTC Progress Report consistent with the Annual PTC Progress Report FRA published (see https://www.fra.dot.gov/eLib/details/L17366) as much as possible (where the questions overlap), FRA also added a comment box to the summary section and quantitative rows entitled “Route Miles in Testing or Revenue Service Demonstration” and “Route Miles in PTC Operation.”

B. Comments on Section 2—Quarterly Update on Spectrum

Based on AAR's and ASLRRA's comments at the public meeting that spectrum is difficult to quantify in the manner requested in the proposed form, FRA modified the quarterly form so a railroad can simply identify a spectrum coverage area and select from a dropdown menu the applicable status: Not acquired/not available for use; acquired but not available for use; or acquired and available for use.

AAR asked FRA to clarify whether the section on spectrum is asking for a report about only the spectrum coverage missing and left to acquire or about all spectrum coverage. FRA clarified at the public meeting and in the soon-to-be-posted meeting minutes that a railroad should base its progress report on the information it provided in its revised PTCIP. The PTCEI Act required each railroad to identify in its revised PTCIP the calendar year(s) when spectrum will be acquired and will be available for use in each area as needed for PTC implementation, if such spectrum was not already acquired and available for use. 49 U.S.C. 20157(a)(2)(A)(iii)(I). To make the form clearer, FRA added a footnote to the spectrum table, explaining that if the railroad reported in its revised PTCIP it had acquired all necessary spectrum and it was available for use, or the railroad's technology does not require the use of spectrum, the railroad should indicate “N/A” in this table.

Based on AAR's request, FRA also added a comment box to the spectrum section so railroads can provide additional information or explanation.

C. Comments on Section 3—Quarterly Update on Major Installations

AAR, CSX, and Metra commented that FRA should delete the row entitled “Software for Train Management and Other Applications” from the table in Section 3 because software installation is not readily quantifiable. AAR specifically commented that “PTC software is versioned repeatedly over the course of the year with each release of defect remediation and improved functionality.” Based on these concerns, FRA deleted the quantitative category for software installation and instead added a comment box for software, specifically requesting each railroad to “describe (1) the railroad's approach to installation of PTC software on its locomotive fleet, and (2) any issues the railroad is experiencing with installed versions of train management software (e.g., reverting back to previous software versions due to errors in the current version).”

With respect to the locomotive hardware installation table in Section 3, AAR commented that the “number of antennas, event recorders, displays, and other components [including GPS receivers] tells the FRA nothing relevant about how close that railroad is to adding mission-capable locomotives to its fleet.” Balancing FRA's need to monitor railroads' incremental implementation progress with the railroads' request that FRA reduce the reporting burden, FRA decided to modify the form by deleting the categories regarding antennas, GPS receivers, and secondary communications equipment. Moreover, FRA modified the row titles to clarify that a railroad should be reporting in terms of locomotives—for example, the railroad would report the quantity of locomotives with PTC displays installed, not the quantity of PTC displays installed.

The Utah Transit Authority commented that the progress report is geared only towards railroads installing the Interoperable Electronic Train Management System (I-ETMS) and, thus, it is difficult to reflect Utah Transit Authority's own progress implementing a PTC system because it states “N/A” for numerous categories, including spectrum, wayside interface units, and communication towers. FRA notes the PTCEI Act requires quantitative reporting for spectrum and these hardware categories. See 49 U.S.C. 20157(a)(2)(A)(iii)(III), (c)(1)(B), and (i). FRA added a general instruction to the cover page to clarify that railroads may indeed denote a section is not applicable if the particular hardware category does not apply to its technology. In footnotes 2 and 4 in the form, FRA also clarified that a railroad may elect to add categories or subcategories to the reporting form if it wants to provide more detail. Moreover, cognizant that each type of PTC system uses different hardware equipment, FRA chose to include “Transponder Readers” in the locomotive apparatus table in Section 3, which is a type of hardware used in non-I-ETMS types of PTC systems. Despite Utah Transit Authority's suggestion, FRA will not create a different progress report for each type of PTC system because there is not a definite number of PTC systems, various railroads may even implement a specific type of PTC system in different ways, and multiple reporting forms would be difficult to manage administratively.

The Fort Worth Transportation Authority commented the quantities of back office locations and dispatching locations installed should be only an annual, not quarterly, reporting requirement because these are large and complex installations that may take many months or years to build. More generally, BNSF and ASLRRA commented that neither back office locations nor “physical back office system equipment” (the statutory term) are possible to quantify in a meaningful way because most railroads have only one back office. Based on railroads' annual progress reports, however, FRA knows of at least one Class I railroad and one large passenger railroad that have more than one back office for PTC operations. To simplify the reporting burden, FRA has deleted the multi-faceted quantitative table regarding back office and dispatching locations and instead provided a series of more direct quantitative questions—i.e., “How many physical back office locations are required for PTC operations, as reported in the PTCIP?” and “How many physical back office locations have been constructed with all necessary equipment installed?”. Moreover, FRA is asking the same yes/no questions that it asked in the annual progress report—i.e., “Are the Back Office Location(s) fully operable with PTC?” and “Are the Dispatching Location(s) fully operable with PTC?”. And, FRA added a comment box for more information or explanation.

With respect to the Infrastructure—Wayside Installations table in Section 3, AAR commented that FRA should measure the hardware installation quantities system-wide, not by track segment, to reflect the railroad's implementation status more accurately. As requested, FRA modified this table to be system-wide, significantly reducing the reporting burden for railroads. In addition, FRA eliminated the quantitative questions regarding ground wiring and modified the row to ask only a yes/no question as in the annual progress report.

Finally, AAR commented that the “Year-to-Date Cumulative Total” is unclear because it could mean either the sum of the current year's progress or a cumulative for all prior years. To resolve the ambiguity, FRA modified the heading to instead state “Sum of Quarterly Totals” so railroads know that the column calls for the sum of the current year's progress. Also, for consistency with the annual progress report form, FRA added a “Cumulative Quantity Installed” column for the tables in Section 3.

D. Comments on Section 4—Installation/Track Segment Progress

AAR commented that FRA should add a “status” column for each row in Section 3 and eliminate the redundancy of Section 4. AAR believes the information could be better organized in one table and thus avoid the need for cross-referencing between the two tables during the review process. However, at the public meeting, AAR acknowledged the preferred modification would be for FRA to eliminate the track segment granularity from Section 3 and leave Section 4 as is. Accordingly, FRA removed the track-segment by track-segment aspect of Section 3, and did not modify Section 4.

Metra commented that, due to limited funding, it does not intend to create Geographic Information System (GIS) shapefiles to support the information request in Section 4 of the form, which stated “For all live segments, please provide GIS shapefile or corresponding data for segments put into operation.” Instead, Metra commented that it could provide the geographic information in table format. FRA has decided to eliminate this particular reporting requirement from the quarterly form. In the annual progress report, FRA intends to clarify that a railroad can provide, for track segments that are operational and complete only, either GIS shapefiles or updated, geographical information sufficiently specific to allow FRA to maintain its GIS Database.

E. Comments on Section 5—Quarterly Update on Employee Training

Metra and AAR commented that the categories in the employee training section should align with the categories in 49 CFR 236.1041. Accordingly, FRA modified the employee categories in the quarterly form to correspond with the regulations, just as it did in the annual form, based on AAR's similar comment. The Fort Worth Transportation Authority also commented that railroads should have to provide employee training updates only annually, not quarterly, and BNSF commented it is difficult to accurately quantify employee training due to hiring, firing, retiring, and so forth. Although FRA acknowledges there might be a certain level of fluidity to employee training, FRA will nonetheless continue to ask for a quantitative update for employee training consistent with the railroad's revised PTCIP.

For consistency with the annual progress report form, FRA added a “Cumulative # of Employees Trained” column to the table in Section 5 and provided a comment box.

F. Comments on Section 6—Quarterly Update on Interoperability Progress

No comments were received on the interoperability section of the quarterly progress report form. However, FRA notes it modified this section to align with the revisions it made to this corresponding section in the annual progress report.

G. Comments on Burden Estimate, Applicability, and Formatting

AAR commented that its member railroads estimate it will take approximately 40 hours to complete the quarterly progress report form, as opposed to the 1.5 hours that FRA estimated. FRA notes that the 1.57-hour estimate is an average for all railroads. FRA estimated that the quarterly reporting burden is 3 hours for Class I and large passenger railroads, 2 hours for Class II and medium passenger railroads, and .5 hours for Class III, terminal, and small passenger railroads. These estimates take into account that railroads have already completed and provided to FRA the Annual PTC Progress Report, which requests similar types of information as the form for the Quarterly PTC Progress Report, but with more sections. FRA maintains that the average reporting burden for the quarterly form is 1.57 hours, especially as FRA has eliminated portions of the quarterly form initially proposed on March 7, 2016. 81 FR 11878.

Both ASLRRA and the Tri-County Metropolitan Transportation District of Oregon requested clarification about whether only host railroads must submit the quarterly progress reports or whether the reporting requirement also applies to tenant railroads. FRA notes that the annual reporting the PTCEI Act mandated applies to any entity subject to 49 U.S.C. 20157(a), and the scope of this quarterly reporting is the same. A tenant railroad may coordinate with its host railroad to ensure the host railroad captures the tenant railroad's implementation progress in its progress reports.

Once OMB approves this information collection, FRA will provide the Quarterly PTC Progress Report Form to railroads in fillable PDF and Excel formats, which would be available for download on https://www.fra.dot.gov/eLib/details/L17365. For purposes of internal data tracking and analysis, FRA requests that each railroad submit its report in the native format—i.e., if the railroad uses the FRA-provided Excel document, the railroad should submit the report in Excel format. FRA has provided the industry with prototypes of each format, and the public may submit comments on formatting preferences to OMB's Office of Information and Regulatory Affairs (Attn: FRA OMB Desk Officer).

III. Overview of Information Collection

The associated collection of information is summarized below.

Title: Quarterly Positive Train Control Progress Report Form.

Reporting Burden:

Quarterly PTC progress report | Respondent universe | Total annual responses | Average time per response | Total annual burden hours
Form FRA F 6180.165 | 41 Railroads | 164 Reports/Forms | 1.573 hours | 258 hours

Form Number: FRA F 6180.165.

Respondent Universe: 41 Railroads.

Frequency of Submission: On occasion.

Total Estimated Responses for New Quarterly PTC Progress Report Form: 164.

Total Estimated Responses for Entire Information Collection: 147,776.

Total Estimated Annual Burden for New PTC Quarterly Progress Report Forms: 258 hours.

Total Estimated Burden for Entire Information Collection: 3,122,817.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520, 49 U.S.C. 20157(c)(2); see also 49 U.S.C. 20107, 20902; 49 CFR 236.1009(h).

Issued in Washington, DC, on April 29, 2016.
Corey Hill,
Executive Director.

[FR Doc. 2016-10831 Filed 5-6-16; 8:45 am]

BILLING CODE 4910-06-P